ENVIRONMENTAL PROTECTION AGENCY

[ FRL-9301-7]

Notice of Two Proposed Agreements, a CERCLA Agreement and Order on Consent for Removal Action by a Bona Fide Prospective Purchaser Related to The Former Caribbean Petroleum Refining, LP Facility, Bayamon, Puerto Rico, and a Proposed RCRA Compliance and Prospective Purchaser Agreement Related to Gasoline Service Stations' Underground Storage Tanks Currently Owned by Caribbean Petroleum Corporation at Locations Throughout the Commonwealth of Puerto Rico

AGENCY: Environmental Protection Agency.

ACTION: Notice; request for public comment.

SUMMARY: This Notice alerts the public to two proposed administrative settlements for which public comment is requested. In one, Puma Energy, Caribe LLC (“Puma”) and the U.S. Environmental Protection Agency (“EPA”) propose to enter into an agreement and order on consent for a removal action by a bona fide prospective purchaser concerning the former Caribbean Petroleum Refining, LP (“CPR”) facility located in Carr #28, KM. 2, Luchetti Industrial Park, Bayamon, in the Commonwealth of Puerto Rico, Docket Number CERCLA-02-2011-2003 (referred to as the “CERCLA Agreement”) in accordance with the Comprehensive Environmental Response, Compensation, and Liability Act, as amended (“CERCLA”), 42 U.S.C. 9601-9675. In the other proposed agreement (referred to as the “RCRA UST Agreement”), Puma, the United States on behalf of EPA, and the Commonwealth of Puerto Rico on behalf of the Puerto Rico Environmental Quality Board propose to enter into an underground storage tank (“UST”) compliance and prospective purchaser agreement, Index Number RCRA-02-2011-7504, in accordance with Subtitle I of the Resource Conservation and Recovery Act, as amended (“RCRA”), 42 U.S.C. 6991-6991m, concerning issues related to UST systems at one hundred and forty-seven (147) gasoline service stations currently owned or leased by Caribbean Petroleum Corporation (“CPC”) and located throughout the Commonwealth of Puerto Rico. Pursuant to a sale authorized by the United States Bankruptcy Court for the District of Delaware, Puma has been approved to purchase the former CPR facility and the CPC service stations in a sale scheduled to occur in early May 2011. Puma has agreed to perform certain cleanup actions at the former CPR facility in the proposed CERCLA Agreement. In addition, with regard to the service stations, Puma has agreed in the proposed RCRA UST Agreement to assume responsibilities for the UST systems and required cleanup work and to make certain improvements at the service stations that are not required by law. The proposed CERCLA Agreement includes a covenant by the United States not to sue Puma pursuant to Sections 106 and 107(a) of CERCLA for existing contamination at the former CPR facility. The proposed RCRA UST Agreement includes a covenant by the United States not to sue Puma pursuant to Section 9006 of RCRA, 42 U.S.C. 6991e, for violations of the Commonwealth of Puerto Rico Underground Storage Tank Control Regulations, Puerto Rico Administrative Regulation Number 4362, that exist at the one hundred and forty-seven (147) service stations as of the date of Puma's acquisition or that arise within ninety days of the date of acquisition by Puma. The Commonwealth of Puerto Rico is also providing Puma with a covenant not to sue in the proposed RCRA UST Agreement. The covenants in both Agreements are subject to specified conditions. For seven (7) days following the date of publication of this notice, the Agency will receive written comments relating to the two proposed Agreements. The Agency will consider all comments received and may modify or withdraw its consent to either or both of the Agreements if comments received disclose facts or considerations which indicate that the Agreements are inappropriate, improper, or inadequate. Because of strict deadlines in the bankruptcy proceeding involving the corporations which presently own the CPR facility and own or have lease rights at the service stations, the deadline for receipt of public comments cannot be extended.

DATES: Comments must be submitted on or before May 9, 2011.

ADDRESSES: The proposed Agreements can be viewed online at http://www.epa.gov/region2/agreements_with_prospective_purchaser_puma_energy_caribe.html. They are also available for public inspection at the U.S. Environmental Protection Agency Caribbean Office, Office of Regional Counsel, Centro Europa Building, 1492 Ponce de Leon Avenue, Mezzanine Level, Santurce, Puerto Rico 00907-4127, and at the U.S. Environmental Protection Agency, 290 Broadway, 18th Floor Records Center, New York, New York 10007-1866. A copy of the proposed CERCLA Agreement may be obtained from Beverly Kolenberg, Assistant Regional Counsel, U.S. Environmental Protection Agency, 290 Broadway, New York, New York 10007-1866, (212) 637-3167, and the RCRA UST Agreement may be obtained from Rudolph Perez, Assistant Regional Counsel, at the same address, (212) 637-3220. Comments concerning the CERCLA Agreement should reference the CERCLA Agreement, EPA Docket No. CERCLA-02-2011-2003, and should be sent by e-mail to kolenberg.beverly@epa.gov or by overnight mail to Beverly Kolenberg, Assistant Regional Counsel, U.S. Environmental Protection Agency, 290 Broadway, 17th Floor, New York, New York 10007-1866. Comments concerning the RCRA UST Agreement should reference the RCRA UST Agreement, Index Number RCRA-02-2011-7504, and should be sent by 2MY3.e-mail to perez.rudolph@epa.gov or by overnight mail addressed to Rudolph Perez, Assistant Regional Counsel, U.S. Environmental Protection Agency, 290 Broadway, 16th Floor, New York, New York 10007-1866.

FOR FURTHER INFORMATION CONTACT: Beverly Kolenberg, Assistant Regional Counsel at the address, e-mail or telephone number stated above.

Dated: April 21, 2011.
George Pavlou,
Acting Regional Administrator, U.S. Environmental Protection Agency, Region 2.

[FR Doc. 2011-10707 Filed 4-29-11; 8:45 am]

BILLING CODE 6560-50-P